DEPARTMENT OF COMMERCE

National Oceanic and Atmospheric Administration

[I.D. 040301C]

Western Pacific Fishery Management Council; Public Meeting

AGENCY: National Marine Fisheries Service (NMFS), National Oceanic and Atmospheric Administration (NOAA), Commerce.

ACTION: Notice of public meetings.

SUMMARY: The Western Pacific Fishery Management Council (Council) will hold advisory group meetings in the Territories of American Samoa, Guam, and the Commonwealth of the Northern Mariana Islands (CNMI). Advisory Panel, Plan Team, Scientific and Statistical Committee, and Council Members from each respective island area will meet to discuss local fishery issues and comment on current issues being addressed by the Council.

DATES: The American Samoa meeting will be held on April 26, 2001, from 3 to 6 p.m.. The Guam meeting will be held on May 3, 2001, from 6:30 to 9 p.m. The CNMI meeting will be held on May 4, 2001, from 6:30 to 9 p.m.

ADDRESSES: The American Samoa meeting will be held at the Department of Marine and Wildlife Resources conference room, Pago Pago, American Samoa; telephone: (684) 633-4456. The Guam meeting will be held at the Guam Fishermen’s Cooperative, Barrigada, Guam; telephone: (671) 472-6323. The CNMI meeting will be held at the Multipurpose Center, Susupe, Saipan; telephone: (670) 664-6080.

Council address: Western Pacific Fishery Management Council; 1164 Bishop Street, Suite 1400, Honolulu, HI 96813; telephone: 808-522-8220.

FOR FURTHER INFORMATION CONTACT: Kitty M. Simonds, Executive Director; telephone: 808-522-8220.

SUPPLEMENTARY INFORMATION: At each island area meeting, respective Advisory Panel, Plan Team, Scientific and Statistical Committee and Council members will meet to discuss local fishery issues, brief new Advisory Panel members on key Council issues and identify agenda items for a full Advisory Panel meeting to be held in June, 2001.

The agenda for each meeting will include the items listed below:

1. Introduction

2. Orientation including overview of the Magnuson Stevens Act, Council decision making process and fishery management plans.

3. Summary of current fishery issues including, but not limited to, the Council’s fishery management plans, draft environmental impact statements, biological opinions, indigenous initiatives, coral reef fishery management, and other issues affecting the management of fisheries in the Western Pacific Region.

4. Discussion of local fishery issues

5. Recommend agenda items for full Advisory Panel meeting to be held in June 2001.

6. Outreach efforts including supporting fishermen’s forums in each island area and Council participation in organized public events.

7. Other issues

The order in which agenda items are addressed may change. The groups will meet as late as necessary to complete scheduled business.

Although non-emergency issues not contained in this agenda may come before the group for discussion, those issues may not be the subject of formal action during these meetings. Actions will be restricted to those issues specifically listed in this document and any issues arising after publication of this document that require emergency action under section 305(c) of the Magnuson-Stevens Fishery Conservation and Management Act.

Special Accommodations

These meetings are physically accessible to people with disabilities. Requests for sign language interpretation or other auxiliary aids should be directed to Kitty M. Simonds, 808-522-8220 (voice) or 808-522-8226 (fax), at least 5 days prior to the meeting date.

Dated: April 5, 2001.
Richard W. Surdi,
Acting Director, Office of Sustainable Fisheries, National Marine Fisheries Service.

[FR Doc. 01-8813 Filed 4-9-01; 8:45 am]

BILLING CODE 3510-22-S